POSTAL SERVICE BOARD OF GOVERNORS

Sunshine Act Meeting

Board Votes to Close March 1, 2001, Meeting

By paper vote on February 22 and 23, 2001, the Board of Governors of the United States Postal Service voted unanimously to close to public observation its meeting scheduled for March 1, 2001, in Washington, DC, via teleconference.

Item Considered: 1. Opinion and Further Recommended Decision of the Postal Rate Commission in Docket No. R2000-1.

Persons Expected Attend: Governors Ballard, Daniels, del Junco, Dyhrkopp, Fineman, Kessler, McWherter, Rider and Walsh; Postmaster General Henderson, Deputy Postmaster General Nolan, Secretary to the Board Hunter, and General Counsel Gibbons.

General Counsel Certification: The General Counsel of the United States Postal Service has certified that the meeting was properly closed under the Government in the Sunshine Act.

Contact Person for More Information: Requests for information about the meeting should be addressed to the Deputy Secretary of the Board, William T. Johnstone, at (202) 268-4800.

William T. Johnstone,
Deputy Secretary.

[FR Doc. 01-5126 Filed 2-27-01; 2:13 pm]

BILLING CODE 7710-12-M